DEPARTMENT OF DEFENSE

Department of Defense (DoD) Civilian Physicians and Dentists Clinical Specialties and Tables

AGENCY: Department of Defense.

ACTION: Notice.

SUMMARY: As required by the Department of Veterans Affairs Health Care Personnel Enhancement Act of 2004 and in conjunction with the 2012 Delegation Agreement between the Office of Personnel Management (OPM) and the Department of Defense (DoD), the Defense Civilian Personnel Advisory Service (DCPAS) is hereby giving notice of specialty additions and revisions, as well as the addition of pay table six from the Department of Veterans Affairs (VA) structure revised as contained herein for DoD physicians and dentists. These revisions are intended to enhance the flexibility of the DoD to recruit, develop, and retain the most highly qualified providers to serve our nation's active duty members and their families and maintain a standard of excellence in the DoD healthcare system.

DATES: Effective Dates: Revisions are effective on September 23, 2014.

FOR FURTHER INFORMATION CONTACT: Additional information may be obtained by writing to the Compensation Division, Defense Civilian Personnel Advisory Service, Department of Defense, 4800 Mark Center Drive, Alexandria, VA 22350-1100.

SUPPLEMENTARY INFORMATION: Under 38 U.S.C. 7431(e)(1)(C), amounts prescribed under paragraph 7431(e) shall be published in the Federal Register, and shall not take effect until at least 60 days after date of publication.

Background

The “Department of Veterans Affairs Health Care Personnel Enhancement Act of 2004” (Pub. L. 108-445) was signed by the President on December 3, 2004. The major provisions of the law established a new pay system for Veterans Health Administration (VHA) physicians and dentists. In 2012, OPM re-delegated authority to DoD to continue utilizing a portion of Title 38 provisions for DoD civilian physicians and dentists. In accordance with the aforementioned governing documents, DCPAS is submitting revisions contained herein as a Federal Register notice.

Discussion

DoD reviews and adopts the VHA tables and tiers including the minimums and maximums as they are revised by VHA (note: the VHA table 7 is adopted as DoD table 5). While VHA and DoD have similar specialties, there are specialties unique to DoD. In coordination with VHA and OPM, DoD is adding specialties and revising original placement of DoD specific specialties within the table structure, signified below in Italics followed by [New]or [Moved from Table X]. DoD is also adopting VHA's pay table six, Executive Assignments (as contained herein), with minor changes. Differences include a two tier rather than three tier structure, inverse pay minimums and maximums to maintain consistency with the structure of DoD Tables one—five, and removal of VA specific job titles replaced with DoD equivalent job titles.

PAY TABLE 1—CLINICAL SPECIALTIES COVERED

Allergy & Immunization

Endocrinology

Endodontics

Family Practice

General Dentistry

General Practice

Geriatrics

Hospitalist

Infectious Diseases

Internal Medicine

Neurology

Pediatrics

Periodontics

Preventive Medicine

Primary Care

Prosthodontics

Psychiatry

Rheumatology

Other Assignments (Specialties not listed for tables 2-4)

PAY TABLE 2—CLINICAL SPECIALTIES COVERED

Aerospace Medicine [Moved From Table One]

Critical Care—Board Certified

Emergency Medicine

Gynecology

Hematology-Oncology

Nephrology

Obstetrics

Occupational Medicine [Moved From Table One]

Pathology

Physical Medicine & Rehabilitation/Physiatry/Spinal Cord Injury

Pulmonary

Undersea Medicine [Moved From Table One]

PAY TABLE 3—CLINICAL SPECIALTIES COVERED

Cardiology—Non-Invasive

Dermatology

Gastroenterology

Nuclear Medicine

Obstetrics/Gynecology [New]

Ophthalmology

Oral Surgery

Otolaryngology

PAY TABLE 4—CLINICAL SPECIALTIES COVERED

Anesthesiology

Colorectal Surgery

General Surgery

Plastic Surgery

Radiation Oncology

Radiology

Refractive Surgery

Therapeutic Radiology

Trauma/Critical Care Surgery

Urology

Urologic Surgery

Vascular Surgery

PAY TABLE 5—CLINICAL SPECIALTIES COVERED

Cardiology—Interventionalist

Cardio-Thoracic Surgery

Neurosurgery

Orthopedic Surgery

Radiology—Interventionalist

PAY TABLE 6—COVERED EXECUTIVE ASSIGNMENTS

Clinic Directors/Managers/Chiefs [New]

Deputy Chief of Operations [New]

Headquarters Physicians/Dentists [New]

International Program Directors/Managers [New]

Medical/Dental Center Directors/Managers [New]

Principal Deputy [New]

Program Directors/Managers [New]

Research/Development Directors/Managers [New]

Dated: July 21, 2014.
Aaron Siegel,
Alternate OSD Federal Register Liaison Officer, Department of Defense.

[FR Doc. 2014-17490 Filed 7-24-14; 8:45 am]

BILLING CODE 5001-06-P